FEDERAL COMMUNICATIONS COMMISSION

47 CFR Part 73

[DA 01-389, MM Docket No. 01-45, RM-9997]

Digital Television Broadcast Service; Mountain View, AR

AGENCY: Federal Communications Commission.

ACTION: Proposed rule.

SUMMARY: The Commission requests comments on a petition filed by Arkansas Educational Television Commission, licensee of noncommercial educational station KEMV(TV), NTSC channel *6, Mountain View, Arkansas, requesting the substitution of DTV channel *13 for station KEMV(TV)'s assigned DTV channel *35. DTV channel *13 can be allotted to Mountain View, Arkansas, in compliance with the principle community coverage requirements of Section 73.625(a) at reference coordinates (35-48-47 N. and 92-17-24 W.). As requested, we propose to allot DTV channel *13 to Mountain View with a power of 20 and a height above average terrain (HAAT) of 425 meters.

DATES: Comments must be filed on or before April 13, 2001, and reply comments on or before April 30, 2001.

ADDRESSES: Federal Communications Commission, 445 12th Street, SW., Room TW-A325, Washington, DC 20554. In addition to filing comments with the FCC, interested parties should serve the petitioner, or its counsel or consultant, as follows: Todd D Gray, Dow, Lohnes & Albertson, PLLC, 1200 New Hampshire Avenue, NW., Suite 800, Washington, DC 20036 (Counsel for Arkansas Educational Television Commission).

FOR FURTHER INFORMATION CONTACT: Pam Blumenthal, Mass Media Bureau, (202) 418-1600.

SUPPLEMENTARY INFORMATION: This is a synopsis of the Commission's Notice of Proposed Rule Making, MM Docket No. 01-45, adopted February 16, 2001 and released April 30, 2001. The full text of this Commission decision is available for inspection and copying during normal business hours in the FCC Reference Center, 445 12th Street, SW., Washington, DC. The complete text of this decision may also be purchased from the Commission's copy contractor, International Transcription Services, Inc., (202) 857-3800, 1231 20th Street, NW., Washington, DC 20036.

Provisions of the Regulatory Flexibility Act of 1980 do not apply to this proceeding. Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, see 47 CFR 1.415 and 1.420.

List of Subjects in 47 CFR Part 73

Television, Digital television broadcasting.

For the reasons discussed in the preamble, the Federal Communications Commission proposes to amend 47 CFR part 73 as follows:

PART 73—TELEVISION BROADCAST SERVICES

1. The authority citation for part 73 continues to read as follows:

Authority: 47 U.S.C. 154, 303, 334, and 336.

§ 73.622 [Amended]

2. Section 73.622(b), the Table of Digital Television Allotments under Arkansas is amended by removing DTV Channel *35 and adding DTV Channel *13 at Mountain View.

Federal Communications Commission.
Barbara A. Kreisman,
Chief, Video Services Division, Mass Media Bureau.

[FR Doc. 01-4805 Filed 2-27-01; 8:45 am]

BILLING CODE 6712-01-P